DEPARTMENT OF THE INTERIOR

Bureau of Land Management

[18X.LLAK930100.L16100000.PN0000]

Notice of Intent To Prepare an Environmental Impact Statement for the Coastal Plain Oil and Gas Leasing Program, Alaska; Correction

AGENCY: Bureau of Land Management, Interior.

ACTION: Notice; correction.

SUMMARY: The Bureau of Land Management (BLM) published a document in the Federal Register on April 20, 2018, concerning a request for scoping comments on an Environmental Impact Statement (EIS) to implement an oil and gas leasing program in Alaska within the area defined as the “Coastal Plain.” The document omitted a website address for the public to submit comments. This notice corrects the omission to include the website address.

FOR FURTHER INFORMATION CONTACT: Jennifer Noe, by telephone, 202-912-7442, or by email, jnoe@blm.gov.

Correction

In the Federal Register of April 20, 2018, in FR Doc. 2018-08302, on page 17562, in the second column, correct the ADDRESSES caption to read:

ADDRESSES: You may submit comments by any of the following methods:

• Website: www.blm.gov/alaska/coastal-plain-eis.

• Email: blm_ak_coastalplain_EIS@blm.gov.

• Mail: BLM, Alaska State Office, Attention—Coastal Plain EIS, 222 West 7th Avenue, #13, Anchorage, AK 99513-7599.

Jeff Krauss,
Acting Assistant Director, Communications.

[FR Doc. 2018-08806 Filed 4-25-18; 8:45 am]

BILLING CODE 4310-JA-P